CONSUMER PRODUCT SAFETY COMMISSION

Sunshine Act Meeting

TIME AND DATE: Wednesday, July 24, 2019; 9:00 a.m.*

* The Commission unanimously determined by recorded vote that Agency business requires calling the meeting without seven calendar days advance public notice.

PLACE: CPSC Headquarters, 4330 East-West Highway, Bethesda, MD 20814.

STATUS: Commission Meeting—Closed to the Public.

MATTERS TO BE CONSIDERED: Compliance Matters: Staff will brief the Commission on the status of compliance matters.

CONTACT PERSON FOR MORE INFORMATION: Alberta E. Mills, Secretary, Division of the Secretariat, Office of the General Counsel, U.S. Consumer Product Safety Commission, 4330 East-West Highway, Bethesda, MD 20814, (301) 504-7479.

Dated: July 23, 2019.
Alberta E. Mills,
Secretary.

[FR Doc. 2019-15966 Filed 7-23-19; 4:15 pm]

BILLING CODE 6355-01-P